DEPARTMENT OF TRANSPORTATION

Federal Aviation Administration

Notice of Opportunity for Public Comment on Non-Rule Making Action at the GV Montgomery Airport (2M4) Located in Forest, Mississippi

AGENCY: Federal Aviation Administration, DOT.

ACTION: Request for public comments.

SUMMARY: Notice is being given that the FAA is considering a request from the City of Forest, MS to waive the requirement that a 1.90± acre parcel of airport property, located at the GV Montgomery Airport in Forest, Mississippi, be used for aeronautical purposes.

DATES: Comments must be received on or before April 3, 2023.

ADDRESSES:

The public may send comments using the following methods:

• Federal eRulemaking Portal: Go to https://www.regulations.gov, and follow the instructions on providing comments.

• Fax: 601-664-9901.

• Mail: Willie Davidson, Community Planner, Jackson Airports District Office, 100 West Cross St., Suite B, Jackson, MS 39208-2307.

• Hand Delivery: Deliver to mail address above between 8 a.m. and 5 p.m. Monday through Friday, excluding Federal holidays.

In addition, one copy of any comments submitted to the FAA must be mailed or delivered to City of Forest, MS Attn: Mr. Adam Taylor at the City of Forest, MS P.O. Box 298 Forest, Mississippi 39074.

FOR FURTHER INFORMATION CONTACT: Willie Davidson, Community Planner, Jackson Airports District Office, 100 West Cross Street, Suite B, Jackson, MS 39208-2307, (601) 664-9891. The land release request may be reviewed in person at this same location.

SUPPLEMENTARY INFORMATION: The FAA is reviewing a request by the City of Forest to release 1.90± acres of airport property at the GV Montgomery Airport (2M4) under the provisions of title 49, U.S.C. 47153(c). The FAA determined that the request to release property at GV Montgomery Airport (2M4) submitted by the Sponsor meets the procedural requirements of the Federal Aviation Administration and the release of the property does not and will not impact future aviation needs at the airport. The FAA may approve the request, in whole or in part, no sooner than thirty days after the publication of this notice. The property will be purchased by Tyson Foods, that also owns the adjacent property to the east. The property is located on the eastern most parcel of airport property south of Jack Lee Drive. The airport will receive fair market value for the property, and the net proceeds from sale of this property will be used for maintenance and improvements at GV Montgomery Airport (2M4).

The proposed use of this property is compatible with airport operations. Copies of the Property Appraisal, Boundary Survey, Legal Description are available for examination by appointment. Any person may inspect the request in person at the FAA office listed above under FOR FURTHER INFORMATION CONTACT.

In addition, any person may, upon request, inspect the request, notice and other documents germane to the request in person at the GV Montgomery Airport (2M4).

Issued in Jackson, Mississippi on March 3, 2023.
Rans D. Black,
Manager, Jackson Airports District Office, Southern Region.

[FR Doc. 2023-04763 Filed 3-7-23; 8:45 am]

BILLING CODE 4910-13-P